DEPARTMENT OF HEALTH AND HUMAN SERVICES

National Institutes of Health

Center for Scientific Review; Amended Notice of Meeting

Notice is hereby given of a change in the meeting of the Center for Scientific Review Special Emphasis Panel, February 18, 2002, 4 p.m. to February 18, 2002, 5 p.m., NIH, Rockledge 2, Bethesda, MD, 20892 which was published in the Federal Register on February 7, 2002, 67 FR 5841-5842.

The meeting will be held on February 25, 2002, from 2 p.m. to 3 p.m. The location remains the same. The meeting is closed to the public.

Dated: February 13, 2002.
LaVerne Y. Stringfield,
Director, Office of Federal Advisory Committee Policy.

[FR Doc. 02-4291 Filed 2-21-02; 8:45 am]

BILLING CODE 4140-01-M